DEPARTMENT OF VETERANS AFFAIRS

Advisory Committee Charter Renewals

AGENCY: Department of Veterans Affairs.

ACTION: Notice of advisory committee charter renewals.

SUMMARY: In accordance with the provisions of the Federal Advisory Committee Act (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
VA National Academic Affiliations Council | Provides advice on matters affecting partnerships between VA and its academic affiliates | January 28, 2022.
Veterans' Rural Health Advisory Committee | Provides advice on health care issues that affect Veterans residing in rural areas | March 21, 2022.
Cooperative Studies Scientific Evaluation Committee | Provides advice on VA cooperative studies, multi-site clinical research activities, and policies related to conducting and managing these efforts and ensures that new and ongoing projects maintain high quality, are based upon scientific merit, mission relevance, and quality and are conducted efficiently, safely and economically conducted | May 19, 2022.
Health Services Research and Development Service Scientific Merit Review Board | Provides advice on the fair and equitable selection of the most meritorious research projects for support by VA research funds and to offer advice for research program officials on program priorities and policies; ensures the high quality and mission relevance of VA's legislatively mandated research and development program; and advises on the scientific and technical merit, the mission relevance and the protection of human and animal subjects proposals | May 19, 2022.
Joint Biomedical Laboratory Research and Development and Clinical Science Research and Development Services Scientific Merit Review Board | Provides advice on the scientific quality, budget, safety and mission relevance of investigator-initiated research proposals submitted for VA merit review consideration and to offer advice for research program officials on program priorities and policies | May 19, 2022.
Rehabilitation Research and Development Service Scientific Merit Review Board | Provides advice on the fair and equitable selection of the most meritorious research projects for support by VA research funds; provides advice for research program officials on program priorities and policies; and ensures that the VA Rehabilitation Research and Development program promotes functional independence and improves the quality of life for impaired and disabled Veterans | May 19, 2022.

The Secretary also determined that the following Federal advisory committee is vital to VA and reestablished its charter:

Committee name | Committee description | Charter renewed on
National Research Advisory Council | Provides advice on the nature and scope of research and development sponsored and/or conducted by the Veterans Health Administration, to include policies and programs of the Office of Research and Development | June 4, 2021.
Veterans' Family, Caregiver and Survivor Advisory Committee | Provides advice related to Veterans' families, caregivers, and survivors across all generations, relationships, and Veteran status; the use of VA care and benefits services by Veterans' families, caregivers, and survivors, and possible expansion of such care and benefits services; Veterans' family, caregiver, and survivor experiences; VA policies, regulations, and administrative requirements related to the transition of Servicemembers from the DoD to enrollment in VA that impact Veterans' families, caregivers, and survivors; and factors that influence access to, quality of, and accountability for services and benefits for Veterans' families, caregivers, and survivors | June 4, 2021.

The Secretary has also renewed the charter for the following statutorily authorized Federal advisory committee for a two-year period, beginning on the date listed below:

Committee name | Committee description | Charter renewed on
Advisory Committee on Cemeteries and Memorials | Provides advice on the administration of VA national cemeteries, Soldiers' lots and plots, the selection of cemetery sites, the erection of appropriate memorials and the adequacy of Federal burial benefits | June 2, 2021.
Veterans and Community Oversight and Engagement Board | Coordinates locally with VA to identify the goals of the community and Veteran partnership; provides advice and recommendations to the Secretary of Veterans Affairs, to improve services and outcomes for Veterans, members of the Armed Forces, and the families of such Veterans and members; and provides advice and recommendations on the implementation of the Draft Master Plan approved by the Secretary on January 28, 2016, and on the creation and implementation of any other successor master plans | June 10, 2021.
Special Medical Advisory Group | Provides advice on the care and treatment of enrolled Veterans and other matters pertinent to the operations of the Veterans Health Administration | July 30, 2021.
Advisory Committee on Women Veterans | Provides advice on the administration of benefits for women Veterans; reports and studies pertaining to women Veterans; and the needs of women Veterans with respect to health care, rehabilitation benefits, compensation, outreach, and other relevant programs administered by VA | October 14, 2021.
Veterans' Advisory Committee on Rehabilitation | Provides advice on the administration of Veterans' rehabilitation programs under title 38, U.S.C | January 18, 2022.
Advisory Committee on Minority Veterans | Provides advice on the administration of VA benefits for Veterans who are minority group members, by reviewing reports and studies on compensation, health care, rehabilitation, outreach, and other benefits and services administered by the Department | March 25, 2022.

FOR FURTHER INFORMATION CONTACT: Jeffrey Moragne, Committee Management Officer, Department of Veterans Affairs, Advisory Committee Management Office (00AC), 810 Vermont Avenue NW, Washington, DC 20420; telephone (202) 714-1578; or email at Jeffrey.Moragne@va.gov. To view a copy of a VA Federal advisory committee charters, please visit http://www.va.gov/advisory.

Dated: May 11, 2022.
Jelessa M. Burney,
Federal Advisory Committee Management Officer.

[FR Doc. 2022-10452 Filed 5-13-22; 8:45 am]

BILLING CODE P